COMMITTEE FOR PURCHASE FROM PEOPLE WHO ARE BLIND OR SEVERELY DISABLED

Procurement List; Additions and Deletion

AGENCY: Committee for Purchase From People Who Are Blind or Severely Disabled.

ACTION: Additions to and deletion from Procurement List.

SUMMARY: This action adds to the Procurement List a product and a service to be furnished by nonprofit agencies employing persons who are blind or have other severe disabilities, and deletes from the Procurement List the service previously furnished by such agency.

DATES: Effective Date: May 18, 2009.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

Additions

On 2/20/2009 and 2/27/2009 the Committee for Purchase From People Who Are Blind or Severely Disabled published notices (74 FR 7855 and 74 FR 8903 respectively) of proposed additions to the Procurement List.

After consideration of the material presented to it concerning capability of qualified nonprofit agencies to provide the product and service and impact of the additions on the current or most recent contractors, the Committee has determined that the product and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 46-48c) in connection with the product and service proposed for addition to the Procurement List.

End of Certification

Accordingly, the following product and service are added to the Procurement List:

Product

NSN: 7510-00-079-7906—Tape, Pressure Sensitive, 2in Tan Package Sealing.

NPA: Cincinnati Association for the Blind, Cincinnati, OH.

Contracting Activity: Federal Acquisition Service, GSA/FSS OFC SUP CTR—PAPER PRODUCTS, New York, NY.

Coverage: A-list for the total Government requirement as specified by the General Services Administration.

Service

Base Information Transfer Center (BITC), Multiple Locations, AF Air Combat Command, 740 Arnold Avenue, 1C, Whiteman AFB, MO.

NPA: The Arc of the Virginia Peninsula, Inc., Hampton, VA.

Contracting Activity: DEPT OF THE AIR FORCE, FA4890 ACC CONS LGC.

Deletion

On 2/27/2009, the Committee for Purchase From People Who Are Blind or Severely Disabled published notice (74 FR 38 page 8903) of proposed deletion from the Procurement List.

After consideration of the relevant matter presented, the Committee has determined that the service listed below is no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Litter Pickup. Tinker Air Force Base, 7615 5th Street, Tinker AFB, OK.

NPA: Mid-Del Group Home, Inc., Midwest City, OK

Contracting Activity: Dept of the Air Force.

Barry S. Lineback,
Director, Business Operations.

[FR Doc. E9-8741 Filed 4-16-09; 8:45 am]

BILLING CODE 6353-01-P